NUCLEAR REGULATORY COMMISSION

Sunshine Act; Notice of Meetings

Agency Holding the Meetings: Nuclear Regulatory Commission.

Dates: Weeks of May 1, 8, 15, 22, 29, June 5, 2006.

Place: Commissioner' Conference Room, 11555 Rockville Pike, Rockville, Maryland.

Status: Public and Closed.

Matters to be Considered:

Week of May 1, 2006

Tuesday, May 2, 2006

9:30 a.m. Briefing on Status of Emergency Planning Activities—Morning Session (Public Meeting) (Contact: Eric Leeds, 301-415-2334).

1 p.m. Briefing on Status of Emergency Planning Activities—Afternoon Session (Public Meeting).

These meetings will be webcast live at the Web address http://www.nrc.gov.

Wednesday, May 3, 2006

8:55 a.m. Affirmation Session (Public Meeting) (Tentative)

a. Andrew Siemaszko, Docket No. IA-05-021, unpublished Licensing Board Order (March 2, 2006) (Tentative).

9 a.m. Briefing on Status of Risk-Informed, Performance-Based Reactor Regulation (Public Meeting) (Contact: Eileen McKenna, 301-415-2189).

This meeting will be webcast live at the Web address http://www.nrc.gov.

Week of May 8, 2006—Tentative

There are no meetings scheduled for the Week of May 8, 2006.

Week of May 15, 2006—Tentative

Monday, May 15, 2006

1 p.m. Briefing on Status of Implementation of Energy Policy Act of 2005 (Public Meeting) (Contact: Scott Moore, 301-415-7278).

This meeting will be webcast live at the Web address http://www.nrc.gov.

Tuesday, May 16, 2006

9:30 a.m. Briefing on Results of the Agency Action Review Meeting—Reactors/Materials (Public Meeting) (Contact: Mark Tonacci, 301-415-4045).

This meeting will be webcast live at the Web address http://www.nrc.gov.

Week of May 22, 2006—Tentative

Wednesday, May 24, 2006

9:30 a.m. Discussion of Security Issues (closed—ex. 1).

1:30 p.m. All Employees Meeting (Public Meeting), Marriott Bethesda North Hotel, Salons D-H, 5701 Marinelli Road, Rockville, MD 20852.

Week of May 29, 2006—Tentative

Wednesday, May 31, 2006

Discussion of Security Issues (closed—ex. 1).

Week of June 5, 2006—Tentative

Wednesday, June 7, 2006

9:30 a.m. Discussion of Security Issues (closed—ex. 1 & 3).

* * * * *

Additional Information

The Affirmation of Andrew Siemaszko, Docket No. IA-05-021, unpublished Licensing Board Order (Dec. 22, 2005) previously tentatively scheduled on May 3, 2006, has been postponed and will be rescheduled.

* * * * *

The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: April 26, 2006.
R. Michelle Schroll,
Office of the Secretary.

[FR Doc. 06-4164 Filed 4-28-06; 1:03 pm]

BILLING CODE 7590-01-M